FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
017678N | Four Link International, Inc., 146-27 167th Street, #100, Jamaica, NY 11434 | January 2, 2010.
018613N | Caribbean Cargo & Package Services, Inc., 147-46 176th Street, Jamaica, NY 11434 | December 18, 2009.
021418F | Asbun International Freight, Inc., 8140 NW. 74th Avenue, Suite 13 & 14, Medley, FL 33166 | January 4, 2010.
021476F | Norma's Cargo Solutions LLC, 5665 SW. 8th Street, Miami, FL 33134 | January 21, 2010.

Sandra L. Kusumoto,
Director, Bureau of Certification and Licensing.

[FR Doc. 2010-4418 Filed 3-2-10; 8:45 am]

BILLING CODE 6730-01-P